DEPARTMENT OF COMMERCE

International Trade Administration

[A-201-817]

Oil Country Tubular Goods From Mexico: Rescission of Antidumping Duty Administrative Review

AGENCY: Import Administration, International Trade Administration, Department of Commerce.

ACTION: Notice of Rescission of Antidumping Duty Administrative Review.

SUMMARY: On October 2, 2000, the Department of Commerce (the Department) published in the Federal Register (65 FR 58733) a notice announcing the initiation of an administrative review of the antidumping duty order on oil country tubular goods (OCTG) from Mexico. The review period is August 1, 1999 to July 31, 2000. This review has now been rescinded because one party requesting the review withdrew its request, and the remaining exporter named in the request for review made no entries of subject merchandise for consumption in the United States during the period of review.

EFFECTIVE DATE: May 15, 2001.

FOR FURTHER INFORMATION CONTACT: Phyllis Hall or Nancy Decker, Enforcement Group III, Office 8, Import Administration, International Trade Administration, U.S. Department of Commerce, 14th Street and Constitution Avenue, NW., Room 7866, Washington, DC 20230; telephone (202) 482-1398 or (202) 482-0196 respectively.

The Applicable Statute

Unless otherwise indicated, all citations to the Tariff Act of 1930, as amended (the Act) are references to the provisions effective January 1, 1995, the effective date of the amendments made to the Act by the Uruguay Round Agreements Act (URAA). In addition, unless otherwise indicated, all citations to the Department's regulations are references to the provisions codified at 19 CFR part 351 (2000).

Scope of Review

Imports covered by this review are oil country tubular goods, hollow steel products of circular cross-section, including oil well casing, tubing, and drill pipe, of iron (other than cast iron) or steel (both carbon and alloy), whether seamless or welded, whether or not conforming to American Petroleum Institute (API) or non-API specifications, whether finished or unfinished (including green tubes and limited service OCTG products). This scope does not cover casing, tubing, or drill pipe containing 10.5 percent or more of chromium. The OCTG subject to this order are currently classified in the Harmonized Tariff Schedule of the United States (HTSUS) under item numbers: 7304.21.30.00, 7304.21.60.30, 7304.21.60.45, 7304.21.60.60, 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.30.10, 7304.29.30.20, 7304.29.30.30, 7304.29.30.40, 7304.29.30.50, 7304.29.30.60, 7304.29.30.80, 7304.29.40.10, 7304.29.40.20, 7304.29.40.30, 7304.29.40.40, 7304.29.40.50, 7304.29.40.60, 7304.29.40.80, 7304.29.50.15, 7304.29.50.30, 7304.29.50.45, 7304.29.50.60, 7304.29.50.75, 7304.29.60.15, 7304.29.60.30, 7304.29.60.45, 7304.29.60.60, 7304.29.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50.

Although the HTSUS subheadings are provided for convenience and customs purposes, our written description of the scope of this proceeding is dispositive.

The Department has determined that couplings, and coupling stock, are not within the scope of the antidumping order on OCTG from Mexico. See Letter to Interested Parties; Final Affirmative Scope Decision, August 27, 1998.

Background

On August 31, 2000, petitioner on behalf of U.S. Steel Group, a unit of USX Corporation, requested an administrative review of Tubos de Acero de Mexico S.A. (TAMSA), a Mexican producer and exporter of OCTG, with respect to the antidumping order published in the Federal Register on August 11, 1995 (60 FR 41055). Additionally, respondent Hylsa, S.A. de C.V. (Hylsa) requested that the Department conduct an administrative review of Hylsa. We initiated the review for both companies on October 2, 2000 (65 FR 58733). On October 19, 2000, Hylsa withdrew its request and requested that the Department terminate the review with respect to Hylsa. On October 26, 2000, we received comments from TAMSA. On December 22, 2000, we received comments from petitioners. These comments are discussed below.

SUPPLEMENTARY INFORMATION: On October 26, 2000 TAMSA claimed that “it did not export, directly or indirectly, enter for consumption, or sell, export or ship for entry for consumption in the United States subject merchandise during the period of review.” Petitioner subsequently claimed on December 22, 2000, that publicly available import data from the Department's IM-145 database showed that 2,914 metric tons of seamless OCTG from Mexico entered the United States during the period of review. Petitioner asserted that TAMSA was the only producer of seamless OCTG in Mexico. In addition, petitioner claimed that subject merchandise produced by TAMSA was shipped from a third country and entered into the United States during the period of review. Petitioner requested that the Department investigate these transactions to determine whether this merchandise is subject to review.

In response to a telephone query on March 6, 2001, TAMSA indicated that it made no U.S. sales or consumption entries during the POR. TAMSA claimed all of its shipments to the United States were TIB entries, and were destined for re-export. TAMSA also indicated that it had no knowledge of its customers having entered covered merchandise into the United States for consumption. See Memorandum to File dated March 17, 2001.

During March 2001, the U.S. Customs Service (Customs) officially confirmed that the entries shipped by TAMSA to the United States were TIB entries. Customs also confirmed that none of these entries entered the customs territory of the United States during the POR for consumption. With respect to the third country shipment referenced by the petitioner, Customs officially confirmed on April 5, 2001 that the merchandise had been entered under the proper country of export (the third country) and that the merchandise was declared as being of Mexican origin and was entered subject to duty. Because this merchandise was exported to the United States by a party not affiliated with TAMSA and not subject to this review, and because there is no evidence that TAMSA had knowledge of the shipment or was involved with it in any way, we have determined that there are no shipments for purposes of this review. On April 18, 2001, the Department forwarded a no-shipment inquiry to the Customs for circulation to all Customs ports. Customs did not indicate to the Department that there was any record of consumption entries during the POR of OCTG exported by TAMSA.

Because there were no entries for consumption during the POR for OCTG for which TAMSA was the appropriate respondent, and because Hylsa withdrew its request for review, we are rescinding this review in accordance with the Department's practice. The cash deposit rate for these firms will continue to be the rate established in the most recently completed segment of this proceeding.

This notice is issued and published in accordance with section 777(i) of the Act and 19 CFR 351.213(d)(4).

Dated: May 2, 2001.
Joseph A. Spetrini,
Deputy Assistant Secretary, AD/CVD Enforcement Group III.

[FR Doc. 01-12213 Filed 5-14-01; 8:45 am]

BILLING CODE 3510-DS-P